INTERNATIONAL TRADE COMMISSION

[Investigation Nos. 701-TA-703 and 731-TA-1661-1663 (Final)]

Glass Wine Bottles From Chile, China, and Mexico; Revised Schedule for the Subject Investigations

AGENCY: United States International Trade Commission.

ACTION: Notice.

DATES: July 30, 2024.

FOR FURTHER INFORMATION CONTACT: Charles Cummings (202-708-1666), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On June 3, 2024, the Commission established a schedule for the conduct of the final phase of the subject investigations (89 FR 49901, June 12, 2024) following the preliminary determination from the U.S. Department of Commerce (“Commerce”) that countervailable subsidies are being provided to producers and exporters of certain glass wine bottles from China (89 FR 47533, June 3, 2024). Subsequently, Commerce placed on the record of this investigation a memorandum extending the date for its final determination in the countervailing duty investigation with respect to China from August 12, 2024 to August 19, 2024. The Commission, therefore, is revising its schedule to conform with Commerce's new schedule.

The Commission's revised dates in the schedule are as follows: the deadline for filing posthearing briefs is 5:15 p.m. on August 23, 2024; the Commission will make its final release of information on September 13, 2024; and final party comments are due on 5:15 p.m. on September 17, 2024.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: July 30, 2024.
Lisa Barton,
Secretary to the Commission.

[FR Doc. 2024-17200 Filed 8-2-24; 8:45 am]

BILLING CODE 7020-02-P